DEPARTMENT OF HEALTH AND HUMAN SERVICES

Centers for Disease Control and Prevention

[60Day-18-18CV; Docket No. CDC-2017-0102]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled “Rapid Response Suicide Investigation Data Collection.” CDC will use information collected to respond to urgent requests for CDC assistance.

DATES: CDC must receive written comments on or before January 8, 2018.

ADDRESSES: You may submit comments, identified by Docket No. CDC-2017-0102 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Leroy A. Richardson, Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Rapid Response Suicide Investigation Data Collection—New—National Center for Injury Prevention and Control (NCIPC), Centers for Disease Control and Prevention (CDC).

Background and Brief Description

CDC is frequently called upon to respond to urgent requests from one or more external partners (e.g., local, state, territory, and tribal health authorities; other federal agencies; local and state leaders; schools; or other partner organizations) to conduct investigations of suicide. Supporting rapid investigations to inform the implementation of effective suicide prevention strategies is one of the most important ways CDC can serve to protect and promote the health of the public. Prior to this information collection request, CDC had collected data for a suicide investigation via the OMB-approved Emergency Epidemic Investigations (EEI) generic information collection plan (OMB Control Number 0920-1011; expiration date 3/31/2020), which supported data collections for Epi-Aid investigations. However, this mechanism is no longer available for rapid suicide responses due to the narrowing in scope of that generic. CDC requests a three-year approval of a generic information collection plan that allows for rapid response to urgent CDC assistance requests to investigate an apparent and unexplained potential cluster or increase in suicidal behavior. CDC designed the Rapid Response Suicide Investigation Data Collections specifically to inform the implementation of prevention strategies in a state, county, community, or vulnerable population where a possible suicide cluster or increasing trend has been observed. CDC will not use this generic information collection plan to conduct research studies or to collect data designed to draw conclusions about the United States or areas beyond the defined geographic location or vulnerable population that is the focus of the investigation.

These public health data are used by external partners (e.g., local, state, territory, and tribal health authorities; other federal agencies; local and state leaders; schools; or other partner organizations) to identify, prioritize, and implement strategies to prevent suicidal behavior and suicide.

Rapid Response Suicide Investigation Data Collections methods will vary and depend on the unique circumstances of the urgent and rapid response and objectives determined by CDC. Investigations may use descriptive and/or cohort- or case-control designs. Data collection modes may include: (a) Archival record abstraction; (b) face-to-face interview; (c) telephone interview; (d) web-based questionnaire; (e) self-administered questionnaire; and (f) focus groups. CDC will likely employ multiple data collection designs and modes in a single investigation. The subpopulation will vary and depend on the unique circumstances of the Rapid Response Suicide Investigation Data Collections.

Requests for assistance may include a state, county, community, or vulnerable population. Suicide rates are increasing across age-groups and vulnerable populations, include, but are not limited to, youth, middle-aged adults, active duty service personnel, veterans, and American Indian/Alaska Native communities. Investigations likely will often require collection of information from 10 or more respondents. The data analytic approach for the Rapid Response Suicide Investigation Data Collection will vary and depend on the objectives and methods of the investigation.

Multiple analytical strategies are likely to be employed in a single investigation. This may include descriptive analyses, logistic regression, and temporal and spatial cluster analyses. The goal of the analyses is to inform suicide prevention strategies by understanding (a) significant increases in fatal or nonfatal suicidal behavior; (b) the risk factors associated with trends of fatal or nonfatal suicidal behavior; (c) the groups most affected (e.g., gender, age, location in community or state); and (d) current risk and protective factors and prevention opportunities. The total estimated annualized burden for this collection is 1,000 hours. The only cost to respondents will be time spent responding to the surveys.

Estimated Annualized Burden Hours
Type of respondents | Form name | Number of respondents | Number of responses per respondent | Average burden per response (in hours) | Total burden (in hours)
Rapid Response Suicide Investigation Data Collection Participants | Rapid Response Suicide Investigation Data Collection Instruments | 2,000 | 1 | 30/60 | 1,000
Total |  |  |  |  | 1,000

Leroy A. Richardson,
Chief, Information Collection Review Office, Office of Scientific Integrity, Office of the Associate Director for Science, Office of the Director, Centers for Disease Control and Prevention.

[FR Doc. 2017-24404 Filed 11-8-17; 8:45 am]

BILLING CODE 4163-18-P